DEPARTMENT OF TRANSPORTATION

Federal Aviation Administration

Office of Commercial Space Transportation; Notice of Availability of the Supplemental Environmental Assessment (EA) and Finding of No Significant Impact (FONSI) for the Blue Origin West Texas Launch Site

AGENCY: Federal Aviation Administration (FAA), DOT.

ACTION: Notice of availability of Supplemental EA and FONSI.

SUMMARY: In accordance with the National Environmental Policy Act of 1969, as amended (NEPA) (42 U.S.C. 4321 et seq.), Council on Environmental Quality NEPA implementing regulations (40 CFR Parts 1500-1508), and FAA Order 1050.1E, Change 1, the FAA is announcing the availability of the Supplemental EA and FONSI for the Blue Origin West Texas Launch Site.

FOR FURTHER INFORMATION CONTACT: Mr. Daniel Czelusniak, Environmental Specialist, Office of Commercial Space Transportation, Federal Aviation Administration, 800 Independence Avenue SW., Room 325, Washington, DC 20591, telephone (202) 267-5924; email daniel.czelusniak@faa.gov.

SUPPLEMENTARY INFORMATION: The Supplemental EA was prepared to analyze the potential environmental impacts of FAA's Proposed Action of issuing experimental permits and/or launch licenses to Blue Origin for operation of various suborbital reusable launch vehicles (RLVs) at Blue Origin's West Texas launch site. This Supplemental EA evaluates the potential environmental impacts of operation of the RLVs, construction of support infrastructure, ground operations (e.g., engine testing), and amateur launches. All construction activities related to the Proposed Action would occur within the Blue Origin property line.

The FAA previously analyzed the potential environmental impacts of issuing one or more experimental permits and/or launch licenses to Blue Origin to operate suborbital RLVs in the August 2006 Final Environmental Assessment for the Blue Origin West Texas Commercial Launch Site (2006 EA). The 2006 EA evaluated the potential environmental impacts of construction and operation of a commercial launch site on privately-owned property in Culberson County, Texas, and assessed 52 annual launches of earlier RLV versions over a five-year period, from 2006 to 2010. The current Proposed Action falls outside the scope of the 2006 EA, because (1) the 2006 EA limited the environmental analysis to the years 2006-2010 and Blue Origin now proposes to continue RLV development operations through 2019; (2) the propellants and certain other characteristics of the proposed RLVs are different than the previous versions; and (3) Blue Origin proposes additional construction activities.

The Blue Origin West Texas launch site is located approximately 25 miles north of Van Horn, Texas. It lies within a larger, privately-owned property known as the Corn Ranch. The Supplemental EA addresses the potential environmental impacts of implementing the Proposed Action and the No Action Alternative.

Under the Proposed Action, the FAA would issue experimental permits and/or launch licenses for the operation of various suborbital RLVs at Blue Origin's West Texas launch site. The Proposed Action includes the activities that would be authorized by an experimental permit or launch license (i.e., the operation of the launch vehicles) as well as construction of support infrastructure required to support the proposed RLV activities, ground testing activities, and amateur launches that would occur at the launch site. Experimental permits would be valid for one year. Launch licenses could be valid for up to two years. The FAA could renew experimental permits and launch licenses if requested, by Blue Origin, in writing, at least 60 days before the permit expires, or at least 90 days before the license expires.

For purposes of analyzing environmental impacts in the Supplemental EA, the FAA assumed a conservative number of launches of the various suborbital RLVs for each of the years analyzed (2014-2019). The FAA assumed a maximum of up to 54 annual launches between 2014 and 2019 of the largest contemplated vehicle configuration as the basis for assessing environmental impact.

The only alternative to the Proposed Action analyzed in the Supplemental EA is the No Action Alternative. Under the No Action Alternative, the FAA would not issue experimental permits and/or launch licenses to Blue Origin for the operation of various suborbital RLVs at Blue Origin's West Texas launch site. Existing Blue Origin activities that do not require an FAA experimental permit or license could continue at the launch site, including but not limited to amateur rocketry operations, ground tests, and construction.

The environmental impact categories considered in the Supplemental EA include air quality; construction impacts; fish, wildlife, and plants; hazardous materials, pollution prevention, and solid waste; historical, architectural, archaeological, and cultural resources; and noise. Potential cumulative impacts of the Proposed Action and No Action Alternative are also addressed in the Supplemental EA.

The FAA has posted the Supplemental EA and FONSI on the Internet at http://www.faa.gov/about/office_org/headquarters_offices/ast/environmental/review/permits/.

Issued in Washington, DC on: February 7, 2014.
Daniel Murray,
Manager, Space Transportation Development Division.

[FR Doc. 2014-03306 Filed 2-13-14; 8:45 am]

BILLING CODE 4910-13-P